DEPARTMENT OF TRANSPORTATION

Federal Aviation Administration

14 CFR Part 39

[Docket No. FAA-2004-18996; Directorate Identifier 2004-NM-40-AD; Amendment 39-13865; AD 2004-23-10]

RIN 2120-AA64

Airworthiness Directives; Boeing Model 737-700 and -800 Series Airplanes

AGENCY: Federal Aviation Administration (FAA), DOT.

ACTION: Final rule.

SUMMARY: The FAA is adopting a new airworthiness directive (AD) for certain Boeing Model 737-700 and -800 series airplanes. This AD requires doing an initial inspection for pitting and cracks of the lower skin panel at the lap joint; trimming the inner skin; installing exterior doublers; replacing the fuselage skin assembly; doing repetitive supplemental inspections; and repairing if necessary; as applicable. This AD is prompted by a report indicating that localized pitting in the lower skin panels was found during production on a limited number of airplanes. We are issuing this AD to detect and correct premature fatigue cracking at certain lap splice locations and consequent rapid decompression of the airplane.

DATES: This AD becomes effective December 20, 2004.

The incorporation by reference of a certain publication listed in the AD is approved by the Director of the Federal Register as of December 20, 2004.

ADDRESSES: For service information identified in this AD, contact Boeing Commercial Airplanes, P.O. Box 3707, Seattle, Washington 98124-2207. You can examine this information at the National Archives and Records Administration (NARA). For information on the availability of this material at NARA, call (202) 741-6030, or go to: http://www.archives.gov/federal_register/code_of_federal_regulations/ibr_locations.html.

You can examine the contents of this AD docket on the Internet at http://dms.dot.gov, or at the Docket Management Facility, U.S. Department of Transportation, 400 Seventh Street, SW., room PL-401, on the plaza level of the Nassif Building, Washington, DC.

FOR FURTHER INFORMATION CONTACT: Technical information: Sue Lucier, Aerospace Engineer, Airframe Branch, ANM-120S, FAA, Seattle Aircraft Certification Office, 1601 Lind Avenue, SW., Renton, Washington 98055-4056; telephone (425) 917-6438; fax (425) 917-6590.

Plain language information: Marcia Walters, marcia.walters@faa.gov.

Examining the Docket

The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section.

SUPPLEMENTARY INFORMATION: The FAA proposed to amend 14 CFR Part 39 with an AD for certain Boeing Model 737-700 and -800 series airplanes. That action, published in the Federal Register on September 3, 2004 (69 FR 53855), proposed to require doing an initial inspection for pitting and cracks of the lower skin panel at the lap joint; trimming the inner skin; installing exterior doublers; replacing the fuselage skin assembly; doing repetitive supplemental inspections; and repairing if necessary; as applicable.

Comments

We provided the public the opportunity to participate in the development of this AD. No comments have been submitted on the proposed AD or on the determination of the cost to the public.

Conclusion

We have carefully reviewed the available data and determined that air safety and the public interest require adopting the AD as proposed.

Costs of Compliance

This AD will affect about 4 airplanes worldwide and 2 airplanes of U.S. registry. The following table provides the estimated costs to comply with this AD.

The average labor rate is $65 per work hour. The cost impact of the AD on U.S. operators is estimated to be $83,855.

Table.—Cost Impact
For airplanes listed in the referenced service bulletin as group | Work hours | Parts cost | Per airplane cost
1 | Inspection: 2 | None | $130
| Modification: 38 | 105 | 2,575
2 | Inspection: 2 | None | 130
| Modification: 30 | 104 | 2,054
3 | Inspection: 2 | None | 130
| Modification: 42 | 106 | 2,836
4 | Repair: 920 | 16,200 | 76,000

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-23-10 Boeing: Amendment 39-13865. Docket No. FAA-2004-18996; Directorate Identifier 2004-NM-40-AD.

Effective Date

(a) This AD becomes effective December 20, 2004.

Affected ADs

(b) None.

Applicability

(c) This AD applies to Boeing Model 737-700 and -800 series airplanes, certificated in any category; having variable and serial numbers listed in Table 1 of this AD.

Table 1.—Applicable Variable and Serial Numbers.
Variable number | Serial number | Group
YA004 | 27837 | 1
YA005 | 27836 | 2
YA201 | 28004 | 4
YC003 | 27977 | 3

Unsafe Condition

(d) This AD was prompted by a report indicating that localized pitting in the lower skin panels was found during production on a limited number of airplanes. We are issuing this AD to detect and correct premature fatigue cracking at certain lap splice locations and consequent rapid decompression of the airplane.

Compliance

(e) You are responsible for having the actions required by this AD performed within the compliance times specified, unless the actions have already been done.

Initial Inspection and/or Repair

(f) At the applicable times specified in Table 1 of paragraph 1.E., “Compliance,” of Boeing Special Attention Service Bulletin 737-53-1256, dated September 18, 2003, do the applicable actions specified in Table 2 of this AD in accordance with the Accomplishment Instructions of the service bulletin.

Table 2.—Initial Inspection and/or Repair
For airplanes identified in the service bulletin as— | Requirements—
(1) Groups 1, 2, and 3 | Do an external ultrasonic inspection for pitting and cracks of the lower skin panel at the lap joint.
(2) Groups 1 and 2 | Trim the inner skin and install two exterior doublers (including related investigative actions).
(3) Group 3 | Install three exterior doublers.
(4) Group 4 | Replace the fuselage skin assembly with a new assembly.

Repetitive Inspections

(g) For Groups 1, 2, and 3 airplanes identified in Boeing Special Attention Service Bulletin 737-53-1256, dated September 18, 2003: At the applicable times specified in Table 2 of paragraph 1.E., “Compliance,” of the service bulletin, do the repetitive supplemental inspections of the lower skins and external doublers for discrepancies in accordance with the Accomplishment Instructions of the service bulletin.

Corrective Action

(h) If any discrepancy is found during any action required by this AD, before further flight, repair per a method approved by the Manager, Seattle Aircraft Certification Office (ACO), FAA; or per data meeting the type certification basis of the airplane approved by a Boeing Company Designated Engineering Representative (DER) who has been authorized by the Manager, Seattle ACO, to make such findings. For a repair method to be approved, the approval must specifically reference this AD.

Alternative Methods of Compliance (AMOCs)

(i)(1) The Manager, Seattle ACO, FAA, has the authority to approve AMOCs for this AD, if requested in accordance with the procedures found in 14 CFR 39.19.

(2) An AMOC that provides an acceptable level of safety may be used for any repair required by this AD, if it is approved by a Boeing Company DER who has been authorized by the Manager, Seattle ACO, to make those findings. For a repair method to be approved, the approval must specifically refer to this AD.

Material Incorporated by Reference

(j) You must use Boeing Special Attention Service Bulletin 737-53-1256, dated September 18, 2003, to perform the actions that are required by this AD, unless the AD specifies otherwise. The Director of the Federal Register approves the incorporation by reference of this document in accordance with 5 U.S.C. 552(a) and 1 CFR part 51. For copies of the service information, contact Boeing Commercial Airplanes, P.O. Box 3707, Seattle, Washington 98124-2207. For information on the availability of this material at the National Archives and Records Administration (NARA), call (202) 741-6030, or go to http://www.archives.gov/federal_ register/code_of_federal_regulations/ibr_locations.html. You may view the AD docket at the Docket Management Facility, U.S. Department of Transportation, 400 Seventh Street SW, room PL-401, Nassif Building, Washington, DC.

Issued in Renton, Washington, on November 1, 2004.
Kalene C. Yanamura,
Acting Manager, Transport Airplane Directorate, Aircraft Certification Service.

[FR Doc. 04-24936 Filed 11-12-04; 8:45 am]

BILLING CODE 4910-13-P